INTERNATIONAL TRADE COMMISSION

Temporary Change to Filing Procedures

AGENCY: United States International Trade Commission.

ACTION: Notice.

SUMMARY: The United States International Trade Commission (Commission) provides notice that it is temporarily waiving and amending certain of the Commission's rules that require the filing of paper copies, CD-ROMs, and other physical media in section 337 investigations to address concerns about COVID-19.

DATES: Immediately and until further notice.

FOR FURTHER INFORMATION CONTACT: You may direct telephone inquiries to the Office of the Secretary at (202) 205-2000. You may direct email inquiries to EDIS3help@usitc.gov. Hearing impaired persons can obtain information on this matter by contacting the Commission's TDD terminal at (202) 205-1810. You may find general information concerning the Commission at https://www.usitc.gov.

SUPPLEMENTARY INFORMATION: Section 201.4(b) of the Commission's Rules of Practice and Procedure (19 CFR 201.4(b)) permits the Commission to amend, waive, suspend, or revoke Commission rules for “good and sufficient reason” if the rule is not a matter of procedure required by law. The procedures for the filing of documents, including the provision of paper copies, CD-ROMs, and other physical media in section 337 investigations is not a procedure required by law. Therefore, to address concerns related to COVID-19, the Commission has determined that there is good and sufficient reason to waive and amend certain Commission rules that require such submissions and to require electronic filing for all documents filed with the Commission. This waiver and amendment is effective immediately and until further notice, which will be provided in a subsequent Federal Register notice. Waiver and amendment of these rules will mitigate disruption to section 337 investigations in the event that the USITC building is inaccessible.

Specifically, the Commission temporarily waives: Rule 210.4(f)(3)'s paper copy requirements, as they pertain to documents filed under Rules 210.4(d), 210.8, 210.13, 210.14, 210.15, 210.16, 210.17, 210.18, 210.19, 210.20, 210.21, 210.23, 210.24, 210.25, 210.26, 210.33, 210.34, 210.35, 210.36, 210.38, 210.40, 210.43, 210.45, 210.46, 210.47, 210.50, 210.52, 210.53, 210.57, 210.59, 210.66, 210.70, and 210.71; and the paper copy requirements set forth in Rules 210.4(f)(6)(ii), 210.4(f)(7)(i), and 210.8, as well as the paper filing or copy requirements in the Commission's Handbook on Filing Procedures, with which Rule 210.4(f)(i) requires compliance.

The Commission has approved the temporary amendment of Rule 210.4(f)(2), Rule 210.75, Rule 210.76, and Rule 210.79 to permit parties to file section 337 complaints, exhibits, attachments, and appendices electronically.

The Commission has approved the temporary amendment of Rule 210.7(b) to require that attorneys who designate themselves as lead attorneys or representatives for service of process to provide the Commission with their individual work email address.

The Commission has also approved the temporary amendment of Rules 210.11(a) and 210.75 to require complainants, rather than the Commission, to serve all nonconfidential copies of the complaint and any appendices, supplements, motions for temporary relief, exhibits, and attachments onto each proposed respondent and appropriate embassy, upon notice of institution of investigation, and provide proof of service.

Pursuant to Rule 201.16(a)(1), immediately and until further notice, the Commission will serve public documents by electronic means by posting the documents to its Electronic Document Information System (EDIS), located at https://edis.usitc.gov. Pursuant to Rule 201.16(a)(4), “[electronic] service is complete upon transmission of a notification that the document has been placed in an appropriate repository,” and is available for retrieved by the party being served. Staff in the Office of the Secretary, Docket Services Division, will provide email notification to the parties of the availability of the validated document on EDIS.

All such filings shall comply with the procedures set forth in the Commission's EDIS website at https://edis.usitc.gov.

By order of the Commission.
Issued: March 16, 2020.
Lisa Barton,
Secretary to the Commission.

[FR Doc. 2020-05767 Filed 3-18-20; 8:45 am]

BILLING CODE 7020-02-P